DEPARTMENT OF LABOR

Employment and Training Administration

[TA-W-54,403]

Missota Paper Company, LLC, Brainerd, MN; Notice of Negative Determination Regarding Application for Reconsideration

By application of June 23, 2004, a petitioner requested administrative reconsideration of the Department's negative determination regarding eligibility to apply for Trade Adjustment Assistance (TAA), applicable to workers and former workers of the subject firm. The denial notice was signed on April 7, 2004, and published in the Federal Register on May 24, 2004 (69 FR 29575).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Missota Paper Company LLC, Brainerd, Minnesota was denied because the “contributed importantly” group eligibility requirement of Section 222 of the Trade Act of 1974, as amended, was not met. The “contributed importantly” test is generally demonstrated through a survey of the workers' firm's customers. The survey revealed no increase of imports of uncoated free sheet paper during the relevant period. The subject firm did not import uncoated free sheet paper in the relevant period nor did it shift production to a foreign country.

The petitioner refers to the subject firm's competitor, SAAPI-Cloquet, which also filed a petition for TAA and was certified on February 25, 2004. The petitioner states that SAAPI-Cloquet recently shifted production from coated paper to uncoated paper, thus workers of the subject firm and workers of SAAPI-Cloquet share the same global market for paper. The petitioner further alleges that because workers of SAAPI-Cloquet were certified eligible for TAA, workers of the subject firm should also be eligible.

A review of competitors is not relevant to an investigation concerning import impact on workers applying for trade adjustment assistance. The review of both cases revealed that workers of Missota Paper Company LLC, Brainerd, Minnesota and SAAPI-Cloquet LLC are engaged in the production of paper; however, they do not share the same customer base and have no affiliation with each other. Moreover, the certification of SAAPI-Cloquet LLC, Cloquet, Minnesota refers to the production of fine paper and pulp, while workers of the subject firm are engaged in the production of uncoated paper. As noted above, the “contributed importantly” test is generally demonstrated through a survey of customers of the workers' firm to examine the direct impact on a specific firm. While customers of SAAPI-Cloquet LLC, Cloquet, Minnesota reported an increase in imports of fine paper and pulp during the relevant period, no imports were evidenced during the survey of subject firm's customers.

Conclusion

After review of the application and investigative findings, I conclude that there has been no error or misinterpretation of the law or of the facts which would justify reconsideration of the Department of Labor's prior decision. Accordingly, the application is denied.

Signed at Washington, DC, this 29th day of July, 2004.
Elliott S. Kushner,
Certifying Officer, Division of Trade Adjustment Assistance.

[FR Doc. 04-18234 Filed 8-9-04; 8:45 am]

BILLING CODE 4510-30-P